DEPARTMENT OF HOUSING AND URBAN DEVELOPMENT

[Docket No. FR-5200-FA-25]

Announcement of Funding Awards for the Section 811 Supportive Housing for the Elderly Program Fiscal Year 2008

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Section 811 Supportive Housing for Persons with Disabilities Program. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 811 Supportive Housing for Persons with Disabilities Program is authorized by Section 811 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); and the Consolidated Appropriations Act, 2008 (Pub. L. 110-161; approved December 26, 2007).

The competition was announced in the SuperNOFA published in the Federal Register on May 12, 2008, 72 FR 27032. Applications were rated and selected for funding on the basis of selection criteria contained in that Notice.

The Catalog of Federal Domestic Assistance number for this program is 14.181.

The Section 811 program is the Department's primary program for providing affordable housing for persons with disabilities that allows them to live independently with supportive services. Under this program, HUD provides funds to non-profit organizations to develop supportive housing for persons with disabilities. Funds are also provided to subsidize the expenses to operate the housing projects.

A total of $124,505,254 was awarded to 92 projects for 930 units nationwide. In accordance with section 102(a)(4)(C) of the Department of Housing and Urban Development Reform Act of 1989 (103 Stat. 1987. 42 U.S.C. 3545), the Department is publishing the grantees and amounts of the awards in Appendix A of this document.

Dated: May 1, 2009.
Brian Montgomery,
Assistant Secretary for Housing—Federal Housing Commissioner.

FY 2008 Selections, Section 811 Supportive Housing for Persons With Disabilities
ALABAMA
Athens, AL, Ability Plus, Inc., Capital Advance: $532,300, Three-year rental subsidy: $37,500, Number of units: 4 | Decatur, AL, Ability Plus, Inc., Capital Advance: $532,300, Three-year rental subsidy: $37,500, Number of units: 4.
ARIZONA
Mesa, AZ, MARC Center of Mesa, Inc., Capital Advance: $1,685,000, Three-year rental subsidy: $129,600, Number of units: 14 | Phoenix, AZ, Triple R Behavioral Health, Inc., Capital Advance: $1,002,900, Three-year rental subsidy: $79,800, Number of units: 8.
Tucson, AZ, Comm. Partnership of Southern AZ, Inc., Capital Advance: $1,337,300, Three-year rental subsidy: $99,600, Number of units: 10
COLORADO
Commerce City, CO, Archdiocesan Housing, Inc., Capital Advance: $2,880,000, Three-year rental subsidy: $204,600, Number of units: 19
DELAWARE
Wilmington, DE, The Minister of Caring, Inc., Capital Advance: $652,100, Three-year rental subsidy: $87,600, Number of units: 6
FLORIDA
LaBelle, FL, Goodwill Industries of SW FL, Capital Advance: $1,917,800, Three-year rental subsidy: $139,500, Number of units: 14 | Perry, FL, Goodwill Industries-Big-Bend, Inc., Capital Advance: $1,583,200, Three-year rental subsidy: $130,200, Number of units: 15.
St. Petersburg, FL, Boley Centers, Inc., Capital Advance: $1,943,500, Three-year rental subsidy: $140,700, Number of units: 16
GEORGIA
Albany, GA, Albany Advocacy Resource Center, Inc., Capital Advance: $837,300, Three-year rental subsidy: $67,200, Number of units: 7 | Augusta, GA, Georgia Rehabilitation Institute, Inc., Capital Advance: $595,100, Three-year rental subsidy: $57,600, Number of units: 6.
Augusta, GA, Georgia Rehabilitation Institute, Inc., Capital Advance: $1,572,500, Three-year rental subsidy: $124,800, Number of units: 14 | Marietta, GA, Right in the Community, Inc., Capital Advance: $412,500, Three-year rental subsidy: $38,400, Number of units: 4.
ILLINOIS
Joliet, IL, Cornerstone Services, Inc., Capital Advance: $1,278,400, Three-year rental subsidy: $93,600, Number of units: 8 | Rockford, IL, Milestone, Inc., Capital Advance: $1,203,500, Three-year rental subsidy: $93,600, Number of units: 9.
Monmouth, IL, Warren Achievement Center, Capital Advance: $602,000, Three-year rental subsidy: $70,200, Number of units: 6
INDIANA
Merrillville, IN, Southlake Center for Mental Health, Capital Advance: $2,025,000, Three-year rental subsidy: $151,800, Number of units: 15
KANSAS
Garden City, KS, Mosaic, Capital Advance: $1,019,300, Three-year rental subsidy: $97,500, Number of units: 10
KENTUCKY
LaGrange, KY, Cedar Lake Lodge, Inc., Capital Advance: $1,181,400, Three-year rental subsidy: $91,800, Number of units: 9 | Lexington, KY, Bluegrass Regional MH/MR Board, Inc., Capital Advance: $1,153,800, Three-year rental subsidy: $81,600, Number of units: 8.
LOUISIANA
New Iberia, LA, Community Directions, Inc., Capital Advance: $580,300, Three-year rental subsidy: $136,500, Number of units: 16
MAINE
Lewiston, ME, John F. Murphy Homes, Inc., Capital Advance: $576,600, Three-year rental subsidy: $43,500, Number of units: 6 | Lewiston, ME, John F. Murphy Homes, Inc., Capital Advance: $1,077,800, Three-year rental subsidy: $66,600, Number of units: 6.
MARYLAND
Centreville, MD, Crossroads Community, Inc., Capital Advance: $1,136,700, Three-year rental subsidy: $117,900, Number of units: 10 | Sykesville, MD, Prologue, Inc., Capital Advance: $1,278,500, Three-year rental subsidy: $106,200, Number of units: 9.
Columbia, MD, Humanim, Inc., Capital Advance: $852,300, Three-year rental subsidy: $70,800, Number of units: 6 | Temple Hills, MD, Vesta, Inc., Capital Advance: $1,062,000, Three-year rental subsidy: $120,300, Number of units: 10.
Frederick, MD, Way Station, Inc., Capital Advance: $883,000, Three-year rental subsidy: $70,800, Number of units: 6
MASSACHUSETTS
Clarksburg, MA, The Association for Community Living, Capital Advance: $614,400, Three-year rental subsidy: $75,900, Number of units: 5 | Danvers, MA, Bridgewell, Inc., Capital Advance: $614,400, Three-year rental subsidy: $75,900, Number of units: 5.
MICHIGAN
Hazel Park, MI, Community Housing Network, Capital Advance: $1,524,554, Three-year rental subsidy: $145,800, Number of units: 12
MINNESOTA
Project Location: Alexandria, MN, Non-Profit Sponsor: Accessible Space, Inc., Capital Advance: $1,792,700, Three-year rental subsidy: $165,300, Number of units: 15 | Project Location: Hopkins, MN, Non-Profit Sponsor: Fraser, Capital Advance: $1,931,800, Three-year rental subsidy: $165,300, Number of units: 15.
MISSISSIPPI
Project Location: Lexington, MS, Non-Profit Sponsor: NAMI Mississippi, Co-Sponsor: Quality Mental Health, Capital Advance: $1,372,900, Three-year rental subsidy: $125,700, Number of units: 14
MISSOURI
Project Location: Columbia, MO, Non-Profit Sponsor: Burrell Behavioral Health, Inc., Capital Advance: $1,165,800, Three-year rental subsidy: $105,000, Number of units: 10 | Project Location: Joplin, MO, Non-Profit Sponsor: Ozark Center, Capital Advance: $1,406,500, Three-year rental subsidy: $136,500, Number of units: 15.
Project Location: Jefferson City, MO, Non-Profit Sponsor: New Horizons Community Support, Capital Advance: $1,165,800, Three-year rental subsidy: $105,000, Number of units: 10 | Project Location: Kansas City, MO, Non-Profit Sponsor: Community Housing Network, Capital Advance: $1,753,900, Three-year rental subsidy: $154,800, Number of units: 15.
Project Location: Popular Bluff, MO, Non-Profit Sponsor: Family Counseling Center, Inc., Capital Advance: $1,064,200, Three-year rental subsidy: $105,000, Number of units: 10 | Project Location: Springfield, MO, Non-Profit Sponsor: Burrell Behavioral Health, Inc., Capital Advance: $1,416,900, Three-year rental subsidy: $126,600, Number of units: 14.
NEBRASKA
Project Location: Norfolk, NE, Non-Profit Sponsor: Liberty Centre Services, Inc., Capital Advance: $1,097,700, Three-year rental subsidy: $99,600, Number of units: 10
NEVADA
Project Location: Las Vegas, NV, Non-Profit Sponsor: Accessible Space, Inc., Capital Advance: $3,108,400, Three-year rental subsidy: $240,000, Number of units: 22
NEW JERSEY
Project Location: Galloway, NJ, Non-Profit Sponsor: CARING, Inc., Co-Sponsor: CARING House Projects, Inc., Capital Advance: $1,153,300, Three-year rental subsidy: $125,400, Number of units: 8 | Project Location: Livingston, NJ, Non-Profit Sponsor: Cerebral Palsy of New Jersey, Inc., Capital Advance: $652,100, Three-year rental subsidy: $122,100, Number of units: 6.
Project Location: Linden, NJ, Non-Profit Sponsor: NJ Connect, Inc., Co-Sponsor: The Domus Corp., Capital Advance: $1,765,600, Three-year rental subsidy: $203,400, Number of units: 11 | Project Location: Plainfield, NJ, Non-Profit Sponsor: Cerebral Palsy of New Jersey, Inc., Capital Advance: $576,600, Three-year rental subsidy: $81,600, Number of units: 4.
Project Location: West Orange, NJ, Non-Profit Sponsor: Cerebral Palsy of New Jersey, Inc., Capital Advance: $576,600, Three-year rental subsidy: $81,600, Number of units: 4
NEW YORK
Project Location: Lake Ronkonkoma, NY, Non-Profit Sponsor: Options for Community Living, Inc., Capital Advance: $2,080,900, Three-year rental subsidy: $282,000, Number of units: 12 | Project Location: Levittown, NY, Non-Profit Sponsor: Nassau AHRC, Capital Advance: $652,100, Three-year rental subsidy: $141,000, Number of units: 6.
Project Location: Utica, NY, Non-Profit Sponsor: Rebuild Mohawk Valley, Capital Advance: $1,063,200, Three-year rental subsidy: $74,400, Number of units: 6
NORTH CAROLINA
Gastonia, NC, Reinvestment in Communities of Gaston County, Inc., Capital Advance: $1,238,700, Three-year rental subsidy: $91,800, Number of units: 9 | Wilkesboro, NC, Nurture Appalachia Community Development Corporation, Capital Advance: $647,100, Three-year rental subsidy: $61,200, Number of units: 6.
Raleigh, NC, Community Alternatives for Supportive Abodes, Capital Advance: $1,223,600, Three-year rental subsidy: $91,800, Number of units: 9
NORTH DAKOTA
Grand Forks, ND, Development Homes, Inc., Capital Advance: $680,000, Three-year rental subsidy: $45,900, Number of units: 6
OHIO
Archbold, OH, Filling Memorial Home of Mercy, Inc., Capital Advance: $1,430,600, Three-year rental subsidy: $146,100, Number of units: 12 | Toledo, OH, Luther Home of Mercy, Capital Advance: $1,430,600, Three-year rental subsidy: $146,100, Number of units: 12.
South Euclid, OH, Jewish Community Housing Corporation, Capital Advance: $456,900, Three-year rental subsidy: $48,900, Number of units: 4
OKLAHOMA
McAlester, OK, Accessible Space, Inc., Capital Advance: $1,383,700, Three-year rental subsidy: $134,700, Number of units: 15 | Muskogee, OK, Sheltered Work-Activity Program, Inc., Capital Advance: $832,700, Three-year rental subsidy: $115,500, Number of units: 12.
OREGON
Beaverton, OR, Sequoia Mental Health Services, Capital Advance: $1,862,800, Three-year rental subsidy: $147,600, Number of units: 15 | Springfield, OR, Sheltercare, Capital Advance: $1,977,500, Three-year rental subsidy: $168,900, Number of units: 16.
Grants Pass, OR, Options for Southern Oregon, Inc., Capital Advance: $1,441,900, Three-year rental subsidy: $116,100, Number of units: 12
PENNSYLVANIA
Beaver, PA, Passavant Memorial Hospital, Capital Advance: $953,700, Three-year rental subsidy: $88,200, Number of units: 8 | Philadelphia, PA, Aut Living and Working, Inc., Capital Advance: $576,600, Three-year rental subsidy: $63,000, Number of units: 4.
Erie, PA, HANDS, Inc., Capital Advance: $1,153,400, Three-year rental subsidy: $110,100, Number of units: 10 | Philadelphia, PA, Columbus Property Management & Development, Capital Advance: $1,572,500, Three-year rental subsidy: $141,900, Number of units: 9.
Philadelphia, PA, Columbus Property Mangement & Development, Capital Advance: $1,572,500, Three-year rental subsidy: $141,900, Number of units: 9 | Philadelphia, PA, Liberty Resources, Inc., Capital Advance: $1,970,500, Three-year rental subsidy: $204,900, Number of units: 13.
RHODE ISLAND
Warwick, RI, House of Hope Community Development Corp., Capital Advance: $724,300, Three-year rental subsidy: $70,800, Number of units: 5 | Westerly, RI, WARM, Inc., Capital Advance: $1,278,100, Three-year rental subsidy: $113,100, Number of units: 8.
SOUTH CAROLINA
Holly Hill, SC, Mental Health America of South Carolina, Capital Advance: $1,841,000, Three-year rental subsidy: $131,400, Number of units: 14
SOUTH DAKOTA
Sioux Falls, SD, Accessible Space, Capital Advance: $2,014,000, Three-year rental subsidy: $127,200, Number of units: 15
TENNESSEE
Memphis, TN, Cocaine & Alcohol Awareness Program, Inc., Capital Advance: $1,429,200, Three-year rental subsidy: $134,400, Number of units: 15 | Memphis, TN, Mosaic, Capital Advance: $840,800, Three-year rental subsidy: $76,800, Number of units: 8.
TEXAS
Austin, TX, UCP of Texas, Capital Advance: $739,900, Three-year rental subsidy: $74,700, Number of units: 8 | Rosenberg, TX, Texana Center, Capital Advance: $1,406,500, Three-year subsidy: $141,600, Number of units: 15.
El Paso, TX, TVP Non-Profit Corporation, Co-Sponsor: Opportunity Center for the Homeless, Capital Advance: $1,419,300, Three-year rental subsidy: $137,400, Number of units: 15
VIRGINIA
Rocky Mount, VA, Piedmont Regional Comm. Ser. Bd., Capital Advance: $494,100, Three-year rental subsidy: $63,300, Number of units: 6 | Stafford County, VA, Rappahannock Comm. Ser., Inc., Capital Advance: $494,100, Three-year rental subsidy: $63,300, Number of units: 6.
Stafford County, VA, Rappahannock Comm. Ser., Inc., Capital Advance: $494,100, Three-year rental subsidy: $63,300, Number of units: 6
WASHINGTON
Everett, WA, Washington Home of Their Own, Capital Advance: $1,088,200, Three-year rental subsidy: $92,100, Number of units: 8 | Moses Lake, WA, Community Frameworks, Capital Advance: $1,989,200, Three-year rental subsidy: $188,700, Number of units: 17.
Kennewick, WA, Shalom Ecumenical Center, Capital Advance: $1,677,600, Three-year rental subsidy: $155,400, Number of units: 15 | Spokane, WA, Spokane Mental Health, Capital Advance: $1,917,000, Three-year rental subsidy: $177,600, Number of units: 17.
WISCONSIN
Black River Falls, WI, Impact Seven, Inc., Capital Advance: $999,000, Three-year rental subsidy: $88,500, Number of units: 8 | Madison, WI, Movin' Out, Inc., Capital Advance: $1,453,200, Three-year rental subsidy: $121,800, Number of units: 11.
Hudson, WI, Accessible Space, Inc., Capital Advance: $1,945,800, Three-year rental subsidy: $154,800, Number of units: 15 | Spooner, WI, Impact Seven, Inc., Capital Advance: $1,173,500, Three-year rental subsidy: $88,500, Number of units: 8.

[FR Doc. E9-11091 Filed 5-12-09; 8:45 am]

BILLING CODE 4210-67-P